DEPARTMENT OF JUSTICE

[OMB 1140-0108]

Agency Information Collection Activities; Proposed eCollection eComments Requested; Revision of a Previously Approved Collection; Forensic Firearm Training Request for Non-ATF Employees—ATF Form 7110.15

AGENCY: Bureau of Alcohol, Tobacco, Firearms and Explosives, Department of Justice.

ACTION: 60-day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until March 10, 2025.

FOR FURTHER INFORMATION CONTACT: If you have additional comments especially on the estimated public burden or associated response time, suggestions, or need a copy of the proposed information collection instrument with instructions or additional information, contact: Jodi Marsanopoli, ATF National Laboratory Center, either by mail at ATF National Laboratory Center; 6000 Ammendale Road; Ammendale, MD 20705, by email at jodi.marsanopoli@atf.gov or telephone at 202-527-5078.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Forensic Firearm Training Request for Non-ATF Students (ATF F 7110.15) will be used to obtain information from Federal, State and local, and international law enforcement personnel to register, obtain course information, and/or evaluate ATF forensic firearms investigative techniques training. Information Collection (IC) OMB 1140-0108 is being revised to include the monetized value (from $0 to $ 1,832 (rounded)), which this ICR did not include before. The number of respondents has also increased since 2021, from 75 to 150, resulting in a consequential increase in the total burden hours from 29.5 hours to 37.5 hours.

Overview of This Information Collection

1. Type of Information Collection: Revision of a previously approved collection.

2. The Title of the Form/Collection: Forensic Firearm Training Request for Non-ATF Employees.

3. The agency form number, if any, and the applicable component of the Department sponsoring the collection: Form number: ATF Form 7110.15.

Component: Bureau of Alcohol, Tobacco, Firearms and Explosives, U.S. Department of Justice.

4. Affected public who will be asked or required to respond, as well as the obligation to respond: Affected Public: State, local and Tribal governments and Federal Government.

The obligation to respond is voluntary.

5. An estimate of the total number of respondents and the amount of time estimated for an average respondent to respond: An estimated 150 respondents will provide information to complete this form once annually, and it will take each respondent approximately 0.25 hours to complete their responses.

6. An estimate of the total annual burden (in hours) associated with the collection: The estimated annual public burden associated with this collection is 37.5 total hours, which is equal to 150 (total respondents) * 1 (# of response per respondent) * 0.25 (hours).

7. An estimate of the total annual cost burden associated with the collection, if applicable: $1,831.50.

Total Burden Hours
Activity | Number of respondents | Frequency | Total annual responses | Time per response | Total annual burden (hours)
Student Forensic Firearm Training Request Form 7110.15 | 150 | 1/annually | 150 | 0.25 hours | 37.5 hours
Unduplicated Totals | 150 | 1/annually | 150 | 0.25 hours | 37.5 hours

If additional information is required contact: Darwin Arceo, Department Clearance Officer, United States Department of Justice, Justice Management Division, Policy and Planning Staff, Two Constitution Square, 145 N Street NE, 4W-218, Washington, DC.

Dated: December 31, 2024.
Darwin Arceo,
Department Clearance Officer for PRA, U.S. Department of Justice.

[FR Doc. 2024-31784 Filed 1-6-25; 8:45 am]

BILLING CODE 4410-FY-P